SECURITIES AND EXCHANGE COMMISSION

[SEC File No. 270-148, OMB Control No. 3235-0133]

Submission for OMB Review; Comment Request

Upon Written Request, Copies Available From: Securities and Exchange Commission, Office of FOIA Services, 100 F Street NE, Washington, DC 20549-2736

Extension:

Rule 17a-19 and Form X-17A-19

Notice is hereby given that pursuant to the Paperwork Reduction Act of 1995 (“PRA”) (44 U.S.C. 3501 et seq.), the Securities and Exchange Commission (“Commission”) has submitted to the Office of Management and Budget (“OMB”) a request for approval of extension of the previously approved collection of information provided for in Rule 17a-19 (17 CFR 240.17a-19) and Form X-17A-19 of the Securities Exchange Act of 1934 (15 U.S.C. 78a et seq.).

Rule 17a-19 requires every national securities exchange and registered national securities association to file a Form X-17A-19 with the Commission and the Securities Investor Protection Corporation (“SIPC”) within 5 business days of the initiation, suspension, or termination of any member and, when terminating the membership interest of any member, to notify that member of its obligation to file financial reports as required by Exchange Act Rule 17a-5(b).¹ There are currently a total of 10 national securities exchanges and registered national securities associations that are potential respondents under the rule.

¹ 17 CFR 240.17a-5(b).

Commission staff anticipates that the national securities exchanges and registered national securities associations collectively will make 408 total filings annually pursuant to Rule 17a-19 and that each filing will take approximately 15 minutes. The total reporting burden is estimated to be approximately 102 total annual hours.

An agency may not conduct or sponsor, and a person is not required to respond to, a collection of information under the PRA unless it displays a currently valid OMB control number.

The public may view background documentation for this information collection at the following website: www.reginfo.gov. Find this particular information collection by selecting “Currently under 30-day Review—Open for Public Comments” or by using the search function. Written comments and recommendations for the proposed information collection should be sent within 30 days of publication of this notice to (i) www.reginfo.gov/public/do/PRAMain and (ii) David Bottom, Director/Chief Information Officer, Securities and Exchange Commission, c/o Cynthia Roscoe, 100 F Street NE, Washington, DC 20549, or by sending an email to: PRA_Mailbox@sec.gov.

Dated: November 25, 2020.
J. Matthew DeLesDernier,
Assistant Secretary.

[FR Doc. 2020-26494 Filed 11-30-20; 8:45 am]

BILLING CODE 8011-01-P